DEPARTMENT OF HOUSING AND URBAN DEVELOPMENT

[Docket No. FR-5042-N-02]

Notice of Proposed Information Collection: Healthy Homes and Lead Hazard Control Programs Data Collection—Progress Reporting

AGENCY: Office of Healthy Homes and Lead Hazard Control, HUD.

ACTION: Notice.

SUMMARY: The revised information collection requirement described below will be submitted to the Office of Management and Budget (OMB) for review, as required by the Paperwork Reduction Act. The Department is soliciting public comments on the subject proposal.

DATES: Comments Due Date: June 5, 2006.

ADDRESSES: Interested persons are invited to submit comments regarding this proposal. Comments should refer to the proposal by name and/or OMB Control Number and should be sent to: Katina Flythe, Reports Liaison Officer, Department of Housing and Urban Development, 451 7th Street, SW., Room P-3206, Washington, DC 20410.

FOR FURTHER INFORMATION CONTACT: Lillian Deitzer, Reports Management Officer, Q, Department of Housing and Urban Development, 451 Seventh Street, SW., Washington, DC 20410; (202) 708-2374. (This is not a toll-free number. Hearing- or speech-impaired persons may access the number above via TTY by calling the toll-free Federal Information Relay Service at 1-800-877-8339).

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Healthy Homes and Lead Hazard Control Programs Data Collection—Progress Reporting.

OMB Control Number: 2539-0008.

Need for the Information and Proposed Use: This data collection is designed to provide timely information to HUD regarding the implementation progress of the grantees on carrying out Healthy Homes and Lead Hazard Control Grant Programs. The information collection will also be used to provide Congress with status reports as required by the Residential Lead-Based Paint Hazard Reduction Act (Title X of the Housing and Community Development Act of 1992).

Agency Form Numbers: HUD-96006.

Members of Affected Public: State, tribal, local governments, not-for-profit institutions and for-profit firms located in the U.S.

Total Burden Estimate (First Year): Number of respondents: 250; Frequency of response: 4; Hours per response: 8; Total Burden Hours: 8,000.

Status of the Proposed Information Collection: Revision.

Additional Information: The obligation to respond to this information collection is mandatory.

Authority: Section 3506 of the Paperwork Reduction Act of 1995, 44 U.S.C. Chapter 35, as amended.

Dated: March 31, 2006.
Warren Friedman,
Deputy Director, Office of Healthy Homes and Lead Hazard Control.

[FR Doc. E6-4955 Filed 4-5-06; 8:45 am]

BILLING CODE 4210-67-P